CONSUMER PRODUCT SAFETY COMMISSION

Proposed Extension of Approval of Information Collection; Comment Request—Testing and Recordkeeping Requirements Under the Standard for the Flammability of Mattresses and Mattress Pads

AGENCY: Consumer Product Safety Commission.

ACTION: Notice.

SUMMARY: As required by the Paperwork Reduction Act of 1995 (44 U.S.C. chapter 35), the Consumer Product Safety Commission (CPSC or Commission) requests comments on a proposed three year extension of approval of information collection requirements in the Standard for the Flammability of Mattresses and Mattress Pads. 16 CFR part 1632. The standard is intended to reduce unreasonable risks of burn injuries and deaths from fires associated with mattresses and mattress pads. The standard prescribes a test to assure that a mattress or mattress pad will resist ignition from a smoldering cigarette. The standard requires manufacturers to perform prototype tests of each combination of materials and construction methods used to produce mattresses or mattress pads and to obtain acceptable results from such testing. Manufacturers and importers are required to maintain the records and test results specified under the standard. The Office of Management and Budget (OMB) previously approved the collection of information under control number 3041-0014. OMB's most recent extension of approval will expire on August 31, 2007. The Commission will consider all comments received in response to this notice before requesting an extension of approval of this collection of information from OMB.

An additional mattress standard was promulgated under section 4 of the Flammable Fabrics Act, 15 U.S.C. 1191-1204, effective July 1, 2007, to reduce deaths and injuries related to mattress fires, particularly those ignited by open flame sources such as lighters, candles and matches. 16 CFR part 1633. That standard established new performance requirements for mattresses and mattress sets that will generate a smaller size fire from open flame source ignitions. Part 1633 also contains recordkeeping requirements to document compliance with the standard. OBM approved that collection of information under Control Number 3041-0133, with an expiration date of June 30, 2009. 71 FR 37910.

In May 2006, an Interim Enforcement Policy for Mattresses subject to 16 CFR parts 1632 and 1633, effective May 1, 2006, was issued that reduced prototype surface testing and recordkeeping requirements from six mattress surfaces to two mattress surfaces for each new prototype created after March 15, 2006. That policy is available at http://www.cpsc.gov/BUSINFO/Interimmattress.pdf. Mattress prototypes created before March 15, 2006, are subject to the full requirements of part 1632. In addition, mattress pads are not subject to this policy and must continue to adhere to all the requirements set forth in part 1632.

DATES: Written comments must be received by the Office of the Secretary not later than April 30, 2007.

ADDRESSES: Written comments should be captioned “Collection of Information—Mattress Flammability Standard” and e-mailed to cpsc-os@cpsc.gov. Comments may also be sent by facsimile to (301) 504-0127, or by mail to the Office of the Secretary, Consumer Product Safety Commission, 4330 East West Highway, Bethesda, Maryland 20814.

FOR FURTHER INFORMATION CONTACT: For information about the proposed renewal of this collection of information, or to obtain a copy of the pertinent regulations, call or write Linda L. Glatz, Division of Policy and Planning, Office of Information Technology and Technology Services, Consumer Product Safety Commission, 4330 East West Highway, Bethesda, Maryland 20814; (301) 504-7671, or by e-mail to lglatz@cpsc.gov.

SUPPLEMENTARY INFORMATION:

A. Estimated Burden

The Commission staff estimates that at this time there are 751 establishments producing mattresses, mattress pads, futons, or other types of products required to test and keep records pursuant to 16 CFR part 1632. The staff further estimates that each firm will spend 26 hours for testing and recordkeeping annually for a total of 19,526 hours (751 firms × 26 hours = 19,526 total hours). The annualized cost would be $875,000 based on 19,526 hours times $44.82/hour (based on total compensation of all civilian workers in managerial and professional positions in the U.S., July 2006, Bureau of Labor Statistics).

B. Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Dated: February 26, 2007.
Todd A. Stevenson,
Secretary, Consumer Product Safety Commission.

[FR Doc. E7-3629 Filed 2-28-07; 8:45 am]

BILLING CODE 6355-01-P